DEPARTMENT OF COMMERCE

International Trade Administration

[A-570-803]

Heavy Forged Hand Tools from the People's Republic of China: Amended Final Results of Antidumping Duty Administration Review in Accordance with Court Decision

AGENCY: Import Administration, International Trade Administration, Department of Commerce.

ACTION: Amended Final Results of Antidumping Duty Administration Review

SUMMARY: On July 28, 2003, the United States Court of International Trade (CIT) affirmed the Department of Commerce's (the Department's) redetermination on remand of the final results of the seventh administrative review of the antidumping duty orders on heavy forged hand tools from the People's Republic of China. See Fujian Machinery and Equipment Import & Export Corporation, et al. v. United States, Slip Op. 03-92 (CIT July 28, 2003) (Fujian II). Because all litigation has concluded and the injunction has been lifted, we are amending our final results of review.

EFFECTIVE DATE: December 17, 2003.

FOR FURTHER INFORMATION CONTACT: Thomas Martin, AD/CVD Enforcement, Office 4, Group II, Import Administration, International Trade Administration, U.S. Department of Commerce, 14th Street and Constitution Ave., N.W., Washington, D.C. 20230; telephone:(202) 482-3936.

SUPPLEMENTARY INFORMATION:

Background

On August 11, 1999, the Department published a notice of the final results of the seventh administrative review of the antidumping duty orders on heavy forged hand tools from the People's Republic of China. See Heavy Forged Hand Tools, Finished or Unfinished, With or Without Handles, From the People's Republic of China; Final Results and Partial Recission of Antidumping Duty Administrative Reviews, 64 FR 43659 (August 11, 1999) (Final Results). Subsequent to the Department's Final Results, the respondent filed a lawsuit with the CIT challenging these results. Thereafter, the CIT issued an Order and Opinion dated September 28, 2001, in Fujian Machinery and Equipment Import & Export Corporation, et al. v. United States, 178 F. Supp. 2d 1305 (Ct. Int'l Trade 2001) (Fujian I), remanding several issues to the Department. Among the issues remanded in Fujian I, the CIT ordered the Department to issue separate rates for Fujian Machinery Import & Export Corporation (FMEC) and Shandong Machinery Import & Export Corporation (SMC). See Fujian I, 178 F. Supp. 2d at 1336. Pursuant to Fujian I, the Department filed its remand results on February 20, 2002, issuing separate rates for FMEC and SMC. The CIT reviewed and affirmed the Department's final results of redetermination in Fujian Machinery and Equipment Import & Export Corporation, et al. v. United States, Slip Op. 03-92 (CIT July 28, 2003) (Fujian II). On August 6, 2003, we published a notice of court decision. See Notice of Decision of the Court of International Trade: Heavy Forged Hand Tools From the People's Republic of China, 68 FR 46582 (August 6, 2003).

The time period for appealing the CIT's final decision has expired and no party has appealed this decision. Therefore, in accordance with Fujian II, and because all litigation has concluded and the injunction has been lifted, we are amending our final results in this matter and we will instruct the U.S. Customs and Border Protection (CBP) to liquidate entries, as appropriate, in accordance with our remand results.

Amendment to Final Results

Pursuant to section 516A(e) of the Tariff Act of 1930, as amended (the Act), there is now a final and conclusive court decision with respect to litigation for FMEC and SMC, and we are amending the Final Results to reflect the findings of Fujian II. We will instruct the CBP to liquidate entries, as appropriate. As a result of the remand determinations, we have assigned FMEC and SMC final weighted-average margins as follows:

Fujian Machinery Import & Export Corporation (FMEC)

hammers/sledges | 27.71%
bars/wedges | 47.88%
picks and mattocks | 98.77%
axes/adzes | 18.72%

Shandong Machinery Import & Export Corporation (SMC)

hammers/sledges | 27.71%
bars/wedges | 47.88%
picks and mattocks | 98.77%
axes/adzes | 18.72%

Assessment Rates

The Department will determine, and the CBP shall assess, antidumping duties on all appropriate entries. The Department will issue appropriate assessment instructions directly to the CBP within 15 days of publication of these amended final results of review.

Notification

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective order (APO) of their responsibility concerning the disposition of proprietary information disclosed under APO in accordance with 19 CFR 351.305. Timely written notification of return/destruction of APO materials or conversion to judicial protective order is hereby requested. Failure to comply with the regulations and the terms of an APO is a sanctionable violation.

These final results of administrative review are issued and published in accordance with sections 751(a)(1) and 777(i)(1) of the Act (19 U.S.C. 1675(a)(1) and 19 U.S.C. 1677f(i)(1)).

Dated: December 9, 2003.
James J. Jochum,
Assistant Secretary for Import Administration.

[FR Doc. 03-31128 Filed 12-16-03; 8:45 am]

BILLING CODE 3510-DS-S